POSTAL REGULATORY COMMISSION

39 CFR Part 3050

[Docket No. RM2010-1; Order No. 311]

Periodic Reporting Rules

AGENCY: Postal Regulatory Commission.

ACTION: Proposed rulemaking; availability of rulemaking petition.

SUMMARY: This document announces a proposed rulemaking in response to a recent Postal Service petition involving periodic reporting rules. It concerns a new Postal Service special study updating the density factors that are used to distribute certain attributable transportation costs in two cost segments (Nos. 8 and 14). The public is invited to comment.

DATES: Comments are due October 28, 2009.

ADDRESSES: Submit comments electronically via the Commission's Filing Online system at http:www.prc.gov.

FOR FURTHER INFORMATION CONTACT: Stephen L. Sharfman, General Counsel, at 202-789-6824 or stephen.sharfman@prc.gov.

SUPPLEMENTARY INFORMATION: On October 6, 2009, the Postal Service filed a petition to initiate an informal rulemaking proceeding to consider changes in the analytical methods approved for use in periodic reporting.¹ The Petition explains that the Postal Service has conducted a new special study for the purpose of updating density factors used to distribute vehicle service drive attributable costs in Cost Segment 8 and attributable transportation costs in Cost Segment 14. The data-collection method is similar to the previous special study described in Library Reference USPS-LR-K-33 in Docket No. R2001-1. See id., Proposal 20 at 1.

¹ Petition of the United States Postal Service Requesting Initiation of a Proceeding to Consider a Proposed Change in Analytic Principles (Proposal Twenty), October 6, 2009 (Petition).

The attachment to the Postal Service's Petition explains its proposal in more detail, including the background, objective, rationale, and estimated impact. For illustrative purposes, the Postal Service provides a table showing the impact of distributing FY 2008 highway, rail, and vehicle service driver costs based on the new and existing density factors. See id., Proposal 20 at 3.

It is ordered:

1. The Petition of the United States Postal Service Requesting Initiation of a Proceeding to Consider a Proposed Change in Analytic Principles (Proposal Twenty), filed October 6, 2009, is granted.

2. The Commission establishes Docket No. RM2010-1 to consider the matters raised by the Postal Service's Petition.

3. Interested persons may submit comments on or before October 28, 2009.

4. The Commission will determine the need for reply comments after review of the initial comments.

5. Cassie D'Souza is designated to serve as the Public Representative representing the interests of the general public in this proceeding.

6. The Secretary shall arrange for publication of this notice in the Federal Register.

By the Commission.
Shoshana M. Grove,
Secretary.

[FR Doc. E9-24860 Filed 10-14-09; 8:45 am]

BILLING CODE 7710-FW-P